DEPARTMENT OF THE INTERIOR

Fish and Wildlife Service

[Docket No. FWS-HQ-IA-2017-0046; FXIA16710900000-156-FF09A30000]

Foreign Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA).

ADDRESSES: Documents and other information submitted with these applications are available for review, subject to the requirements of the Privacy Act and Freedom of Information Act, by any party who submits a written request for a copy of such documents to the U.S. Fish and Wildlife Service, Division of Management Authority, Branch of Permits, MS: IA, 5275 Leesburg Pike, Falls Church, VA 22041; fax (703) 358-2281. To locate the Federal Register notice that announced our receipt of the application for each permit listed in this document, go to www.regulations.gov and search on the permit number provided in SUPPLEMENTARY INFORMATION.

FOR FURTHER INFORMATION CONTACT: Joyce Russell, (703) 358-2023 (telephone); (703) 358-2281 (fax); or DMAFR@fws.gov (email).

SUPPLEMENTARY INFORMATION: On the dates below, as authorized by the provisions of the ESA, as amended (16 U.S.C. 1531 et seq.), and/or the Marine Mammal Protection Act (MMPA), as amended (16 U.S.C. 1361 et seq.), we issued requested permits subject to certain conditions set forth therein. For each permit for an endangered species, we found that (1) the application was filed in good faith, (2) the granted permit would not operate to the disadvantage of the endangered species, and (3) the granted permit would be consistent with the purposes and policy set forth in section 2 of the ESA.

Emergency Permit Issuances

Permit numbers 19807C and 38670C were issued under emergency provisions, with waivers of the 30-day comment period, in accordance with 50 CFR 17.22. Permit number 19807C was issued for the import of diagnostic samples of wild chimpanzees (Pan troglodytes) in Sierra Leone due to a disease outbreak, because diagnosis of the disease is necessary to prevent future deaths of individuals of the species. Permit number 38670C was issued for the import of piping plover (Charadrius melodus) eggs that had been salvaged from an abandoned nest in the wild, in order to hatch the eggs in captivity and release fledged birds into the wild. In both cases, these permits were issued in emergency situations where the lives and health of endangered animals were threatened and no reasonable alternatives were available to the applicants.

Permit number 14762C was issued in accordance with section 104(c)(3) of the MMPA, with a waiver of the full 30-day comment period, in order to authorize the U.S. National Park Service to conduct aerial surveys of northern sea otters (Enhydra lutris kenyoni) in Glacier Bay, Alaska, a unique research opportunity that would be lost if permit issuance were to be delayed.

The current notice announces waiver of the 30-day comment period for each of these three permit applications.

Permit No. | Applicant | Receipt of application Federal Register notice | Permit issuance date
Endangered Species
04186C | Columbus Zoo & Aquarium | 81 FR 90863; December 15, 2016 | May 3, 2017.
04257C | Columbus Zoo & Aquarium | 81 FR 86723; December 1, 2016 | May 9, 2017.
06738C | Wildlife Conservation Society | 81 FR 95628; December 28, 2016 | May 25, 2017.
19807C | University of Wisconsin-Madison | Waived | May 19, 2017.
38670C | U.S. Fish and Wildlife Service | Waived | June 6, 2017.
Marine Mammals
14762C | U.S. National Park Service | 82 FR 24381; May 26, 2017 | June 1, 2017.

Joyce Russell,
Government Information Specialist, Branch of Permits, Division of Management Authority.

[FR Doc. 2017-18038 Filed 8-24-17; 8:45 am]

BILLING CODE 4333-15-P